DEPARTMENT OF TRANSPORTATION

Federal Aviation Administration

Agency Information Collection Activities: Requests for Comments; Clearance of Renewed Approval of Information Collection: Information for the Prevention of Aircraft Collisions on Runways at Towered Airports

AGENCY: Federal Aviation Administration (FAA), DOT.

ACTION: Notice and request for comments.

SUMMARY: In accordance with the Paperwork Reduction Act of 1995, FAA invites public comments about our intention to request the Office of Management and Budget (OMB) approval for to renew an information collection. Feedback from surveys to be conducted under this generic information collection will be used in the prevention of runway collisions and in the medication of the severity and frequency of runway incursions.

DATES: Written comments should be submitted by July 23, 2013.

ADDRESSES: Send comments to the FAA at the following address: Ms. Kathy DePaepe, Room 126B, Federal Aviation Administration, AES-200, 6500 S. MacArthur Blvd., Oklahoma City, OK 73169.

FOR FURTHER INFORMATION CONTACT: Kathy DePaepe at (405) 954-9362, or by email at: Kathy.A.DePaepe@faa.gov.

SUPPLEMENTARY INFORMATION: OMB Control Number: 2120-0692

Title: Information for the Prevention of Aircraft Collisions on Runways at Towered Airports

Form Numbers: There are no FAA forms associated with this generic collection of information.

Type of Review: Renewal of a generic information collection.

Background: Information to be collected will focus on pilot, controller, or vehicle driver practices and/or feedback on specific runway safety initiatives, such as training programs, Runway Safety Action Team meetings, changes to procedures, changes to infrastructure made to enhance runway safety (such as changes to paint, signs, lights, and markings), or aspects of airport design. Feedback gathered on the perceived effectiveness of specific strategies to prevent runway incursions will be used by the FAA to refine current intervention strategies and to develop new strategies to help reduce the severity and frequency of runway incursions.

Respondents: An estimated 8,900 pilots, aircraft support vehicle drivers, airport/airfield maintenance staff, management, and other personnel engaged in the operations of aircraft or airports.

Frequency: Information will be collected on occasion.

Estimated Average Burden per Response: 10 minutes.

Estimated Total Annual Burden: 1,480 hours.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on May 20, 2013.
Albert R. Spence,
FAA Assistant Information Collection Clearance Officer, IT Enterprises Business Services Division, AES-200.

[FR Doc. 2013-12476 Filed 5-23-13; 8:45 am]

BILLING CODE 4910-13-P